DEPARTMENT OF TRANSPORTATION

Federal Aviation Administration

14 CFR Part 39

[Docket No. 2003-NM-91-AD]

RIN 2120-AA64

Airworthiness Directives; Various Boeing and McDonnell Douglas Transport Category Airplanes

AGENCY: Federal Aviation Administration, DOT.

ACTION: Notice of proposed rulemaking (NPRM).

SUMMARY: This document proposes to revise an existing airworthiness directive (AD), applicable to various Boeing and McDonnell Douglas transport category airplanes, that currently requires revising the Airplane Flight Manual (AFM) to advise the flightcrew to don oxygen masks as a first and immediate step when the cabin altitude warning horn sounds. The actions specified by that AD are intended to prevent incapacitation of the flightcrew due to lack of oxygen, which could result in loss of control of the airplane. This action would remove certain requirements for certain airplanes and revises the direction to the flightcrew to don oxygen masks as a first and immediate step when the cabin altitude warning occurs, rather than “when the cabin altitude warning horn sounds.” This action is intended to address the identified unsafe condition.

DATES: Comments must be received by August 25, 2003.

ADDRESSES: Submit comments in triplicate to the Federal Aviation Administration (FAA), Transport Airplane Directorate, ANM-114, Attention: Rules Docket No. 2003-NM-91-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-91-AD” in the subject line and need not be submitted in triplicate. Comments sent via the Internet as attached electronic files must be formatted in Microsoft Word 97 or 2000 or ASCII text.

This information may be examined at the FAA, Transport Airplane Directorate, 1601 Lind Avenue, SW., Renton, Washington; or at the FAA, Los Angeles Aircraft Certification Office, 3960 Paramount Boulevard, Lakewood, California.

FOR FURTHER INFORMATION CONTACT: Boeing Airplane Models: Don Eiford, Aerospace Engineer, Systems and Equipment Branch, ANM-130S, FAA, Seattle Aircraft Certification Office, 1601 Lind Avenue, SW., Renton, Washington 98055-4056; telephone (425) 917-6465; fax (425) 917-6590.

McDonnell Douglas Airplane Models: Joe Hashemi, Aerospace Engineer, Flight Test Branch, ANM-160L, FAA, Los Angeles Aircraft Certification Office, 3960 Paramount Boulevard, Lakewood, California 90712-4137; telephone (562) 627-5380; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-91-AD.” The postcard will be date stamped and returned to the commenter.

Availability of NPRMs

Any person may obtain a copy of this NPRM by submitting a request to the FAA, Transport Airplane Directorate, ANM-114, Attention: Rules Docket No. 2003-NM-91-AD, 1601 Lind Avenue, SW., Renton, Washington 98055-4056.

Discussion

On January 24, 2003, the FAA issued AD 2003-03-15, amendment 39-13039 (68 FR 4892, January 31, 2003), applicable to various Boeing and McDonnell Douglas transport category airplanes, to require revising the Airplane Flight Manual (AFM) to advise the flightcrew to don oxygen masks as a first and immediate step when the cabin altitude warning horn sounds. The requirements of that AD are intended to prevent incapacitation of the flightcrew due to lack of oxygen, which could result in loss of control of the airplane.

Actions Since Issuance of Existing Rule

Since the issuance of that AD, the manufacturer has provided data to the FAA substantiating that, for the McDonnell Douglas airplanes specified in AD 2003-15-03, the positive pressure created with the “Emergency” setting of the oxygen masks during rapid decompression events is unnecessary. The “Emergency” setting of the oxygen masks would require the flightcrew to do pressure breathing, which makes it difficult for the flightcrew to communicate or concentrate.

In addition, the manufacturer also requested that the words “If the cabin altitude warning occurs” be used for the McDonnell Douglas airplanes specified in AD 2003-15-03 instead of the words currently used, “If the cabin altitude warning horn sounds.” The manufacturer advised that not all McDonnell Douglas airplanes specified in AD 2003-15-03 are equipped with cabin altitude warning horns.

Advising the flightcrew to don oxygen masks as a first and immediate step when the cabin altitude warning occurs is necessary to prevent incapacitation of the flightcrew due to lack of oxygen, which could result in loss of control of the airplane.

Explanation of Requirements of Proposed Rule

Since an unsafe condition has been identified that is likely to exist or develop on other products of this same type design, the proposed AD would revise AD 2003-03-15 to remove reference to the word “Emergency” when specifying “Crew Oxygen Mask—ON/100%,” for all the McDonnell Douglas airplanes specified in that AD.

Additionally, the proposed AD would revise AD 2003-03-15 to specify that, for all McDonnell Douglas airplanes, the words “If the cabin altitude warning occurs” be used rather than the words, “If the cabin altitude warning horn sounds.”

Editorial Changes

An alternative method of compliance (AMOC) was issued for AD 2003-03-15 on March 12, 2003, for certain McDonnell Douglas airplanes. That AMOC specified the wording “for the AD requirement for oxygen masks to be immediately donned as the first crew action in the event of a rapid ‘decompression.’ ” However, Figures 4, 5, 6, and 8 in that AMOC specify the wording “Cabin Altitude Warning or Rapid Depressurization.” Although AD 2003-03-15 uses the wording decompression in Figures 5, 6, and 7, the FAA has changed that wording in this NPRM to read “depressurization” for Figures 5, 6, and 7 of this proposed rule. For the purposes of this AD, we consider that there is no distinction between the meaning of depressurization and the meaning of decompression. The FAA considers that changing the wording in those Figures will more clearly align with the “pressurization” wording used in the AMOC issued on March 12, 2003. Additionally, such standardization of the term “pressurization” used in the Figures specified for McDonnell Douglas airplanes should assist operators by clarifying the requirements of this proposed AD.

Changes to 14 CFR Part 39/Effect on the Proposed AD

On July 10, 2002, the FAA issued a new version of 14 CFR part 39 (67 FR 47997, July 22, 2002), which governs the FAA's airworthiness directives system. The regulation now includes material that relates to altered products, special flight permits, and alternative methods of compliance (AMOC). Because we have now included this material in part 39, we no longer need to include it in each individual AD. However, this proposed AD identifies the office authorized to issue AMOCs.

Cost Impact

There are approximately 6,956 airplanes (5,179 Boeing airplanes and 1,777 McDonnell Douglas airplanes) of the affected design in the worldwide fleet. The FAA estimates that 3,601 airplanes (2,392 Boeing airplanes and 1,209 McDonnell Douglas airplanes) of U.S. registry would be affected by this proposed AD, that it would take approximately 1 work hour per airplane to accomplish the proposed actions, and that the average labor rate is $60 per work hour. Based on these figures, the cost impact of the proposed AD on U.S. operators is estimated to be $216,060, or $60 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-13039 (68 FR 4892, January 31, 2003), and by adding a new airworthiness directive (AD), to read as follows:

Transport Category Airplanes: Docket 2003-NM-91-AD. Revises AD 2003-03-15, Amendment 39-13039.

Applicability: The airplanes listed in Table 1 of this AD, certificated in any category:

Table 1.—Affected Airplane Models
Airplane manufacturer | Airplane model
Boeing. | 707 series airplanes.
| 720 series airplanes.
| 727 series airplanes.
| 737-100 series airplanes.
| 737-200 series airplanes.
| 737-200C series airplanes.
| 737-300 series airplanes.
| 737-400 series airplanes.
| 737-500 series airplanes.
| 747-100 series airplanes.
| 747-100B series airplanes.
| 747-100B SUD series airplanes.
| 747-200B series airplanes.
| 747-200F series airplanes.
| 747-200C series airplanes.
| 747-300 series airplanes.
| 747SR series airplanes.
| 747SP series airplanes.
McDonnell Douglas | DC-8-11 airplanes.
| DC-8-12 airplanes.
| DC-8-21 airplanes.
| DC-8-31 airplanes.
| DC-8-32 airplanes.
| DC-8-33 airplanes.
| DC-8-41 airplanes.
| DC-8-42 airplanes.
| DC-8-43 airplanes.
| DC-8-51 airplanes.
| DC-8-52 airplanes.
| DC-8-53 airplanes.
| DC-8F-54 airplanes.
| DC-8-55 airplanes.
| DC-8F-55 airplanes.
| DC-8-61 airplanes.
| DC-8-61F airplanes.
| DC-8-62 airplanes.
| DC-8-62F airplanes.
| DC-8-63 airplanes.
| DC-8-63F airplanes.
| DC-8-71 airplanes.
| DC-8-71F airplanes.
| DC-8-72 airplanes.
| DC-8-72F airplanes.
| DC-8-73 airplanes.
| DC-8-73F airplanes.
| DC-9-11 airplanes.
| DC-9-12 airplanes.
| DC-9-13 airplanes.
| DC-9-14 airplanes.
| DC-9-15 airplanes.
| DC-9-15F airplanes.
| DC-9-21 airplanes.
| DC-9-31 airplanes.
| DC-9-32 airplanes.
| DC-9-32 (VC-9C) airplanes.
| DC-9-32F airplanes.
| DC-9-32F (C-9A, C-9B) airplanes.
| DC-9-33F airplanes.
| DC-9-34 airplanes.
| DC-9-34F airplanes.
| DC-9-41airplanes.
| DC-9-51 airplanes.
| DC-9-81 (MD-81) airplanes.
| DC-9-82 (MD-82) airplanes.
| DC-9-83 (MD-83) airplanes.
| DC-9-87 (MD-87) airplanes.
| MD-88 airplanes.
| MD-90-30 airplanes.
| DC-10-10 airplanes.
| DC-10-10F airplanes.
| DC-10-15 airplanes.
| DC-10-30 airplanes.
| DC-10-30F airplanes.
| DC-10-30F (KC-10A, KDC-10) airplanes.
| DC-10-40 airplanes.
| DC-10-40F airplanes.
| MD-10-10F airplanes.
| MD-10-30F airplanes.
| MD-11 airplanes.
| MD-11F airplanes.

Compliance: Required as indicated, unless accomplished previously.

To prevent incapacitation of the flightcrew due to lack of oxygen, which could result in loss of control of the airplane, accomplish the following:

Revision to the Airplane Flight Manual

(a) Within 90 days after the effective date of this AD: For the applicable airplane models listed in the “For—” column of Table 2 of this AD, revise the procedures regarding donning oxygen masks in the event of rapid depressurization, as contained in the Emergency Procedures section of the FAA-approved Airplane Flight Manual (AFM), by replacing the text in the “Replace—” column of Table 2 of this AD with the information in the applicable figure referenced in the “With the Information In—” column of Table 2 of this AD. This may be accomplished by recording the AD number of this AD on the applicable figure and inserting it into the AFM. Table 2 and Figures 1 through 9 follow:

Table 2.—AFM Revisions
For— | Replace— | With the Information in—
Boeing Model 707, 720, and 727 series airplanes | “RAPID DEPRESSURIZATION Oxygen Masks & Regulators—ON, 100% ALL” | Figure 1 of this AD.
Boeing Model 737-100, -200, and -200C series airplanes | “RAPID DEPRESSURIZATION (With airplane altitude above 14,000 feet M.S.L.) PRIMARY Oxygen Masks & Regulators—ON, 100%” | Figure 2 of this AD.
Boeing Model 737-300, 737-400, 737-500, 747-100, 747-100B, 747-100B SUD, 747-200B, 747-200F, 747-200C, 747-300, 747SR, and 747SP series airplanes | “RAPID DEPRESSURIZATION (With airplane altitude above 14,000 feet M.S.L.) RECALL Oxygen Masks & Regulators—ON, 100%” | Figure 3 of this AD.
McDonnell Figure 5 of Douglas Model DC-9-11, DC-9-12, DC-9-13, DC-9-14, DC-9-15, DC-9-15F, DC-9-21, DC-9-31, DC-9-32, DC-9-32 (VC-9C), DC-9-32F, DC-9-32F (C-9A, C-9B), DC-9-33F, DC-9-34, DC-9-34F, DC-9-41, and DC-9-51 airplanes | “RAPID DECOMPRESSION/EMERGENCY DESCENT Phase I and II Manual Pressurization Control FULL FORWARD AND MANUALLY LOCKED Note: Manual Pressurization control forces may be high, apply forces as required Crew Oxygen Masks—ON” | Figure 5 of this AD.
McDonnell Douglas Model DC-9-81 (MD-81), DC-9-82 (MD-82), DC-9-83 (MD-83), DC-9-87 (MD-87), MD-88 airplanes | “RAPID DECOMPRESSION/EMERGENCY DESCENT Phase I and II Manual Pressurization Control—FULL FORWARD AND MANUALLY LOCKED Note: Manual Pressurization control forces may be high, apply forces as required Crew Oxygen Masks—ON/EMERGENCY/100%” | Figure 6 of this AD.
McDonnell Douglas Model MD-90-30 airplanes | “RAPID DECOMPRESSION OXY MASKS—ON/100%/EMERGENCY” | Figure 7 of this AD.
McDonnell Douglas DC-10-10, DC-10-10F, DC-10-15, DC-10-30, DC-10-30F, DC-10-30F (KC-10A, KDC-10), DC-10-40, and DC-10-40F airplanes | “RAPID DEPRESSURIZATION/EMERGENCY DESCENT Recall Cabin OUTFLOW VALVE —VERIFY CLOSED (CLOSE ELECTRICALLY OR MANUALLY IF NOT CLOSED) Oxygen Masks —100% (if required)” | Figure 8 of this AD.
McDonnell Douglas MD-10-10F, MD-10-30F, MD-11, and MD-11F airplanes | “CABIN ALTITUDE Memory Item Outflow Valve—Verify Closed” | Figure 9 of this AD.

Figure 1

For Boeing Model 707, 720, and 727 Series Airplanes:

Insert the information in this figure into the “Emergency Procedures” section of the FAA-approved Airplane Flight Manual.

“CABIN ALTITUDE WARNING OR RAPID DEPRESSURIZATION

If the cabin altitude warning horn sounds:

Oxygen Masks & Regulators | ON, 100%, ALL”

The rest of the steps under this heading in the AFM are unchanged.

Figure 2

For Boeing Model 737-100, -200, and -200C Series Airplanes:

Insert the information in this figure into the “Emergency Procedures” section of the FAA-approved Airplane Flight Manual.

“CABIN ALTITUDE WARNING OR RAPID DEPRESSURIZATION

If the cabin altitude warning horn sounds:

PRIMARY

Oxygen Masks & Regulators | ON, 100%”

The rest of the steps under this heading in the AFM are unchanged.

Figure 3

For Boeing Model 737-300, 737-400, 737-500, 747-100, 747-100B, 747-100B SUD, 747-200B, 747-200F, 747-200C, 747-300, 747SR, and 747SP Series Airplanes:

Insert the information in this figure into the “Emergency Procedures” section of the FAA-approved Airplane Flight Manual.

“CABIN ALTITUDE WARNING OR RAPID DEPRESSURIZATION

If the cabin altitude warning horn sounds:

RECALL

Oxygen Masks & Regulators | ON, 100%”

The rest of the steps under this heading in the AFM are unchanged.

Figure 4

For McDonnell Douglas Model DC-8-11, DC-8-12, DC-8-21, DC-8-31, DC-8-32, DC-8-33, DC-8-41, DC-8-42, DC-8-43, DC-8-51, DC-8-52, DC-8-53, DC-8F-54, DC-8-55, DC-8F-55, DC-8-61, DC-8-61F, DC-8-62, DC-8-62F, DC-8-63, DC-8-63F, DC-8-71, DC-8-71F, DC-8-72, DC-8-72F, DC-8-73, and DC-8-73F Airplanes:

Insert the information in this figure into the “Emergency Procedures” section of the FAA-approved Airplane Flight Manual.

“CABIN ALTITUDE WARNING/RAPID DEPRESSURIZATION

Phase I and II

If the cabin altitude warning occurs:

Crew oxygen mask & | ON/100%”

The rest of the steps under this heading in the AFM are unchanged.

Figure 5

For McDonnell Douglas Model DC-9-11, DC-9-12, DC-9-13, DC-9-14, DC-9-15, DC-9-15F, DC-9-21, DC-9-31, DC-9-32, DC-9-32 (VC-9C), DC-9-32F, DC-9-32F (C-9A, C-9B), DC-9-33F, DC-9-34, DC-9-34F, DC-9-41, and DC-9-51 Airplanes:

Insert the information in this figure into the “Emergency Procedures” section of the FAA-approved Airplane Flight Manual.

“CABIN ALTITUDE WARNING/RAPID DEPRESSURIZATION/EMERGENCY DESCENT

Phase I and II

If a cabin altitude warning occurs:

Crew Oxygen Masks | ON/100%
Manual Pressurization Control | FULL FORWARD AND MANUALLY LOCKED

Note: Manual Pressurization control forces may be high, apply forces as required.”

The rest of the steps under this heading in the AFM are unchanged.

Figure 6

For McDonnell Douglas Model DC-9-81 (MD-81), DC-9-82 (MD-82), DC-9-83 (MD-83), DC-9-87 (MD-87), and MD-88 Airplanes:

Insert the information in this figure into the “Emergency Procedures” section of the FAA-approved Airplane Flight Manual.

“CABIN ALTITUDE WARNING/RAPID DEPRESSURIZATION/EMERGENCY DESCENT

Phase I and II

If the cabin altitude warning occurs:

Crew Oxygen Mask | ON/100%
Manual Pressurization Control | FULL FORWARD AND MANUALLY LOCKED

Note: Manual Pressurization control forces may be high, apply forces as required.”

The rest of the steps under this heading in the AFM are unchanged.

Figure 7

For McDonnell Douglas MD-90-30 Airplanes:

Insert the information in this figure into the “Emergency Procedures” section of the FAA-approved Airplane Flight Manual.

“CABIN ALTITUDE WARNING OR RAPID DEPRESSURIZATION

If the cabin altitude warning occurs:

OXY MASKS | ON/100%”

The rest of the steps under this heading in the AFM are unchanged.

Figure 8

For McDonnell Douglas Model DC-10-10, DC-10-10F, DC-10-15, DC-10-30, DC-10-30F, DC-10-30F (KC-10A, KDC-10), DC-10-40, and DC-10-40F Airplanes:

Insert the information in this figure into the “Emergency Procedures” section of the FAA-approved Airplane Flight Manual.

“CABIN ALTITUDE WARNING OR RAPID DEPRESSURIZATION/EMERGENCY DESCENT

Recall

If the cabin altitude warning occurs:

Oxygen Masks | ON/100%
Cabin
OUTFLOW VALVE | VERIFY CLOSED (CLOSE ELECTRICALLY OR MANUALLY IF NOT CLOSED)”

The rest of the steps under this heading in the AFM are unchanged.

The rest of the steps under this heading in the AFM are unchanged.

Figure 9

For McDonnell Douglas Model MD-10-10F, MD-10-30F, MD-11, and MD-11F Airplanes:

Insert the information in this figure into the “Emergency Procedures” section of the FAA-approved Airplane Flight Manual.

“CABIN ALTITUDE WARNING OR CABIN ALTITUDE

If the cabin altitude warning occurs:

Memory Item
Oxygen Masks | ON/100%
Outflow Valve | Verify Closed”

The rest of the steps under this heading in the AFM are unchanged.

Alternative Methods of Compliance

(b) In accordance with 14 CFR 39.19, the Manager, Seattle Aircraft Certification Office (ACO), FAA, or the Manager, Los Angeles ACO, FAA, is authorized to approve alternative methods of compliance for this AD.

Issued in Renton, Washington, on July 1, 2003.
Vi L. Lipski,
Manager, Transport Airplane Directorate, Aircraft Certification Service.

[FR Doc. 03-17317 Filed 7-8-03; 8:45 am]

BILLING CODE 4910-13-P